INTERNATIONAL TRADE COMMISSION

[Investigation Nos. 701-TA-404-408 and 731-TA-898-902 and 904-908 (Review)]

Hot-Rolled Steel Products From Argentina, China, India, Indonesia, Kazakhstan, Romania, South Africa, Taiwan, Thailand, and Ukraine

Determinations

On the basis of the record ¹ developed in the subject five-year reviews, the United States International Trade Commission (Commission) determines, pursuant to section 751(c) of the Tariff Act of 1930 (19 U.S.C. 1675(c)), that revocation of the countervailing duty orders on hot-rolled steel products from India, Indonesia, and Thailand and the antidumping duty orders on hot-rolled steel products from China, India, Indonesia, Taiwan, Thailand, and Ukraine would be likely to lead to continuation or recurrence of material injury to an industry in the United States within a reasonably foreseeable time. The Commission also determines that revocation of the countervailing duty orders on hot-rolled steel products from Argentina and South Africa and the antidumping duty orders on hot-rolled steel products from Argentina, Kazakhstan, Romania, and South Africa would not be likely to lead to continuation or recurrence of material injury to an industry in the United States within a reasonably foreseeable time.²

¹ The record is defined in sec. 207.2(f) of the Commission's Rules of Practice and Procedure (19 CFR § 207.2(f)).

² Commissioner Charlotte R. Lane dissenting with respect to Argentina, Kazakhstan, Romania, and South Africa. Commissioner Dean A. Pinkert dissenting with respect to Kazakhstan, Romania, and South Africa.

Background

The Commission instituted these reviews on August 1, 2006 (71 FR 43521) and determined on November 6, 2006 that it would conduct full reviews (71 FR 37366, November 21, 2006). Notice of the scheduling of the Commission's reviews and of a public hearing to be held in connection therewith was given by posting copies of the notice in the Office of the Secretary, U.S. International Trade Commission, Washington, DC, and by publishing the notice in the Federal Register on January 29, 2007 (72 FR 2556)(as revised, 72 FR 13123, March 20, 2007). The hearing was held in Washington, DC, on July 31 and August 1, 2007, and all persons who requested the opportunity were permitted to appear in person or by counsel.

The Commission transmitted its determinations in these reviews to the Secretary of Commerce on October 25, 2007. The views of the Commission are contained in USITC Publication 3956 (October 2007), entitled Hot-Rolled Steel Products from Argentina, China, India, Indonesia, Kazakhstan, Romania, South Africa, Taiwan, Thailand, and Ukraine: Investigation Nos. 701-TA-404-408 and 731-TA-898-902 and 904-908 (Review).

By order of the Commission.
Issued: October 25, 2007.
Marilyn R. Abbott,
Secretary to the Commission.

[FR Doc. E7-21337 Filed 10-30-07; 8:45 am]

BILLING CODE 7020-02-P